DEPARTMENT OF THE INTERIOR

Bureau of Land Management

[LLORE00000.L63500000.DR0000.LXSS021H0000.15XL1116AF HAG 15-0077]

Notice of Availability of the Record of Decision for the West Eugene Wetlands in Oregon and Approved Resource Management Plan

AGENCY: Bureau of Land Management, Interior.

ACTION: Notice of availability.

SUMMARY: The Bureau of Land Management (BLM) announces the availability of the Record of Decision (ROD) for the Approved Resource Management Plan (RMP) for the West Eugene Wetlands planning area located in western Oregon. The Oregon/Washington State Director signed the ROD on April 17, 2015, which constitutes the final decision of the BLM and makes the Approved RMP effective immediately.

ADDRESSES: Copies of the ROD/Approved RMP are available upon request from the Eugene District Manager, Bureau of Land Management, 3106 Pierce Parkway, Suite E, Springfield, OR 97477, or via the internet at: http://www.blm.gov/or/districts/eugene/plans/eugenermp.php. Copies of the ROD/Approved RMP are available for public inspection at the above-listed address.

FOR FURTHER INFORMATION CONTACT: Panchita Paulete, Planning and Environmental Coordinator, telephone 541-683-6976; address 3106 Pierce Parkway, Suite E; Springfield, OR 97477; email BLM_OR_EU_Mail@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Interaction with the public regarding this RMP began in 2011. The BLM worked with three cooperating agencies: the US Army Corps of Engineers, the City of Eugene Parks and Open Space Division, and The Confederated Tribes of the Grand Ronde. The RMP establishes direction for approximately 1,340 acres of BLM-administered lands in and near the city of Eugene in Lane County, Oregon; the planning area did not previously have an RMP. The planning area is made up of acquired lands and survey hiatuses. The Approved RMP describes the actions that will meet desired resource conditions for threatened and endangered species and habitat management, while providing other benefits. The Preferred Alternative, described in the October 2011 Draft RMP/Draft Environmental Impact Statement (EIS), was modified to increase acreage within the Prairie Restoration Area land use allocation for threatened and endangered species management, to provide increased opportunities for recreation, and to provide for coordinated management in traditional use plant collection and was carried forward as the Proposed RMP in the Final EIS (November 2014). No protests were received on the Proposed RMP/Final EIS.

The Governor of Oregon was provided a formal, 60-day review period to determine if the Proposed RMP/Final EIS was consistent with existing state or local plans, programs, and policies. No inconsistencies were identified.

There are two implementation decisions in the Approved RMP which are appealable under 43 CFR part 4: (a) designation of travel management networks, including identifying the specific roads and trails that are available for public use and the limitations on use of roads and trails and (b) continued application of the Final Supplementary Rules for Public Land within the West Eugene Wetlands, Eugene District, Oregon, published in the Federal Register on July 28, 2005, and adoption of the application of these rules throughout the planning area on BLM-managed lands. Any party adversely affected may appeal within 30 days of publication of this Notice of Availability. The appeal should state the specific decision(s) being appealed. The appeal must be filed with the Eugene District Manager at the above-listed address.

Please consult the appropriate regulations (43 CFR, part 4, subpart E) for further appeal requirements.

Authority: 40 CFR 1506.6, 40 CFR 1506.10, 43 CFR 1610.2.

Kathryn Stangl,
Eugene District Manager.

[FR Doc. 2015-12187 Filed 5-19-15; 8:45 am]

BILLING CODE 4310-33-P